DEPARTMENT OF THE INTERIOR

National Indian Gaming Commission

25 CFR Part 558

RIN 3141-AA15

Tribal Background Investigations and Licensing

AGENCY: National Indian Gaming Commission, Interior.

ACTION: Technical amendment.

SUMMARY: The National Indian Gaming Commission (NIGC or Commission) is revising its gaming license regulations to correct a section reference in one of its rules.

DATES: Effective: April 29, 2013.

FOR FURTHER INFORMATION CONTACT: John Hay, National Indian Gaming Commission, 1441 L Street NW., Suite 9100, Washington, DC 20005. Email: john_hay@nigc.gov; telephone: 202-632-7009.

SUPPLEMENTARY INFORMATION:

I. Background

The Indian Gaming Regulatory Act (IGRA or the Act), Public Law 100-497, 25 U.S.C. 2701, et seq., was signed into law on October 17, 1988. The Act established the NIGC and sets out a comprehensive framework for the regulation of gaming on Indian lands. The Act provides a statutory basis for the operation of gaming by Indian tribes as a means of promoting tribal economic development, self-sufficiency, and strong tribal governments. To ensure that Indian tribes are the primary beneficiaries of their gaming operations and to protect such gaming as a means of generating tribal revenue, IGRA requires that tribes conduct background investigations on their gaming operations' primary management officials and key employees and submit those results to the Commission before issuing gaming licenses. 25 U.S.C. 2710(b)(2)(F)(ii)(III). The Act also requires tribes to notify the Commission after they have issued such gaming licenses to their primary management officials or key employees. 25 U.S.C. 2710(b)(2)(F)(ii)(I).

On January 25, 2013, the Commission published a final rule amending parts 556 and 558: to streamline the submission of documents to the Commission; to ensure that two notifications are submitted to the Commission in compliance with IGRA; and to clarify the rules regarding the issuance of temporary and permanent gaming licenses. 78 FR 5276, Jan. 25, 2013. The final rules published on January 25, 2013 incorrectly referenced a specific section in one of its rules. This amendment is intended to correct the section reference in one of its rules.

Regulatory Matters

Regulatory Flexibility Act

The rule will not have a significant impact on a substantial number of small entities as defined under the Regulatory Flexibility Act, 5 U.S.C. 601, et seq. Moreover, Indian Tribes are not considered to be small entities for the purposes of the Regulatory Flexibility Act.

Small Business Regulatory Enforcement Fairness Act

The rule is not a major rule under 5 U.S.C. 804(2), the Small Business Regulatory Enforcement Fairness Act. The rule does not have an effect on the economy of $100 million or more. The rule will not cause a major increase in costs or prices for consumers, individual industries, Federal, State, local government agencies or geographic regions. Nor will the rule have a significant adverse effect on competition, employment, investment, productivity, innovation, or the ability of the enterprises, to compete with foreign based enterprises.

Unfunded Mandate Reform Act

The Commission, as an independent regulatory agency, is exempt from compliance with the Unfunded Mandates Reform Act, 2 U.S.C. 1502(1); 2 U.S.C. 658(1).

Takings

In accordance with Executive Order 12630, the Commission has determined that the rule does not have significant takings implications. A takings implication assessment is not required.

Civil Justice Reform

In accordance with Executive Order 12988, the Commission has determined that the rule does not unduly burden the judicial system and meets the requirements of sections 3(a) and 3(b)(2) of the Order.

National Environmental Policy Act

The Commission has determined that the rule does not constitute a major federal action significantly affecting the quality of the human environment and that no detailed statement is required pursuant to the National Environmental Policy Act of 1969, 42 U.S.C. 4321, et seq.

Paperwork Reduction Act

The information collection requirements contained in this rule were previously approved by the Office of Management and Budget as required by the Paperwork Reduction Act, 44 U.S.C. 3501, et seq., and assigned OMB Control Number 3141-0003. The OMB control number expires on October 31, 2013.

List of Subjects in 25 CFR Part 558

Gaming, Indian lands.

Text of the Rule

For the reason discussed in the Preamble, the Commission amends its regulations at 25 CFR part 558 as follows:

PART 558—GAMING LICENSES FOR KEY EMPLOYEES AND PRIMARY MANAGEMENT OFFICIALS

1. The authority citation for part 558 continues to read as follows:

Authority: 25 U.S.C. 2706, 2710, 2712.

§ 558.2 [Amended]

2. Amend § 558.2 by revising the reference in paragraph (c) to “§ 558.3(a)” to read “paragraph (a) of this section.”

Dated: April 8, 2013.
Tracie L. Stevens,
Chairwoman.
Daniel J. Little,
Associate Commissioner.

[FR Doc. 2013-08538 Filed 4-11-13; 8:45 am]

BILLING CODE 7565-01-P